ENVIRONMENTAL PROTECTION AGENCY

[FRL-6963-7]

National and Governmental Advisory Committees to the U.S. Representative to the Commission for Environmental Cooperation

AGENCY: Environmental Protection Agency (EPA).

ACTION: Notice of meeting.

SUMMARY: Pursuant to the Federal Advisory Committee Act (Public Law 92-463), the U.S. Environmental Protection Agency (EPA) gives notice of a meeting of the National Advisory Committee (NAC) and Governmental Advisory Committee (GAC) to the U.S. Representative to the North American Commission for Environmental Cooperation (CEC).

The National and Governmental Advisory Committees advise the Administrator of the EPA in her capacity as the U.S. Representative to the Council of the North American Commission on Environmental Cooperation. The Committees are authorized under Articles 17 and 18 of the North American Agreement on Environmental Cooperation (NAAEC), North American Free Trade Agreement Implementation Act, Public Law 103-182 and as directed by Executive Order 12915, entitled “Federal Implementation of the North American Agreement on Environmental Cooperation.” The Committees are responsible for providing advice to the U.S. Representative on a wide range of strategic, scientific, technological, regulatory and economic issues related to implementation and further elaboration of the NAAEC. The National Advisory Committee consists of 12 representatives of environmental groups and non-profit entities, business and industry, and educational institutions. The Governmental Advisory Committee consists of 12 representatives from state, local and tribal governments.

The Committees are meeting to discuss issues that the U.S. Government should consider as it prepares for the annual North American Commission for Environmental Cooperation Council of Ministers Session.

DATES: The Committee will meet on Thursday, May 3, 2001 from 9 a.m. to 5 p.m., and on Friday, May 4, 2001 from 8:30 a.m. to 3 p.m.

ADDRESSES: The meeting will be held at the DoubleTree Hotel, 1515 Rhode Island Avenue NW., Washington, DC. The meeting is open to the public, with limited seating on a first-come, first-served basis.

FOR FURTHER INFORMATION CONTACT: Mr. Mark Joyce, Designated Federal Officer, U.S. EPA, Office of Cooperative Environmental Management, at (202) 564-9802.

Dated: March 27, 2001.
Mark N. Joyce,
Designated Federal Officer.

[FR Doc. 01-8482 Filed 4-5-01; 8:45 am]

BILLING CODE 6560-50-P